DEPARTMENT OF AGRICULTURE

Rural Business-Cooperative Service

Request for Proposals; Fiscal Year 2003 Funding Opportunity for 1890 Land Grant Institutions Rural Entrepreneurial Program Outreach Initiative

AGENCY: Rural Business-Cooperative Service, USDA.

ACTION: Notice.

SUMMARY: The Rural Business-Cooperative Service (RBS) announces the availability of approximately $1.5 million in competitive cooperative agreement funds allocated from fiscal year (FY) 2003 budget. RBS hereby requests proposals from the 1890 Land Grant Universities and Tuskegee University (1890 Institutions) interested in applying for competitively awarded cooperative agreements for support of RBS' mission goals and objectives of outreach to small rural communities and to develop programs that will develop future entrepreneurs and businesses in rural America in those communities that have the most economic need. These programs must provide sustainable development that is in keeping with the needs of the community and designed to help overcome current identified economic problems. Proposals in both traditional and nontraditional business enterprises are encouraged. The initiative seeks to create a working partnership between the 1890 Institutions and RBS through cooperative agreements.

Grants will be made for proposals found to be meritorious by a peer review panel to the extent that funds are available. However, there is no commitment by RBS to fund any particular proposal or to make a specific number of awards.

Eligible applicants must provide matching funds in support of this project. Matching funds must equal at least 25 percent of the amount provided by RBS in the cooperative agreement. This notice lists the information needed to submit on application for these funds.

DATES: Cooperative agreement applications must be received by 4 p.m. July 11, 2003. Proposals received after July 11, 2003, will not be considered for funding.

ADDRESSES: Send proposals and other required materials to Mr. Edgar L. Lewis, Program Manager, Rural Business-Cooperative Service, USDA, Stop 3252, Room 4221, 1400 Independence Avenue, SW., Washington, DC 20250-3252. Telephone: (202) 690-3407. e-mail: edgar.lewis@usda.gov.

FOR FURTHER INFORMATION CONTACT: Mr. Edgar L. Lewis, Program Manager, Rural Business-Cooperative Service, USDA, Stop 3252, Room 4221, 1400 Independence Avenue, SW., Washington, DC 20250-3252. Telephone: (202) 690-3407. e-mail: edgar.lewis@usda.gov.

SUPPLEMENTARY INFORMATION:

General Information

This solicitation is issued pursuant to section 607(b)(4) of the Rural Development Act of 1972, as amended by section 759A of the Federal Agriculture Improvement and Reform Act of 1996. Also, this solicitation is issued pursuant to Executive Order 13256 (February 12, 2002),—“President's Board of Advisors on Historically Black Colleges and Universities.”

RBS was established by the Department of Agriculture Reorganization Act of 1994. The mission of RBS is to enhance the quality of life for rural Americans by providing leadership in building competitive businesses including sustainable cooperatives that can prosper in the global marketplace. RBS meets these goals by: investing financial resources and providing technical assistance to businesses and cooperatives located in rural communities and establishing strategic alliances and partnerships that leverage public, private, and cooperative resources to create jobs and stimulate rural economic activity.

The primary purpose of the 1890 Land Grant Institutions Rural Entrepreneurial Program Outreach Initiative is to promote Rural Development programs, provide outreach and technical assistance, and encourage and assist underserved rural community residents to participate in the USDA-Rural Development programs, especially those administered by RBS. This outreach initiative is also designed to develop programs that will develop future entrepreneurs and businesses in rural America in those communities that have the most economic need. These programs must provide sustainable development that is in keeping with the needs of the community and are designed to help overcome current identified economic problems. Proposals in both traditional and nontraditional business enterprises are encouraged. The initiative seeks to create a working partnership through cooperative agreements between 1890 Institutions and RBS, to develop programs to assist future entrepreneurs and businesses.

RBS plans to use cooperative agreements with the 1890 Institutions to strengthen the capacity of these communities to undertake innovative, comprehensive, citizen led, long-term strategies for community and economic development. The cooperative agreements will be for an outreach effort to promote RBS programs in targeted underserved rural communities and shall include, but are not limited to:

(a) Developing a program of business startup and technical assistance for assisting with new business development, business planning, franchise startup and consulting, business expansion studies, marketing analysis, cashflow management, and seminars and workshops for small businesses;

(b) Developing management and technical assistance plans that will:

(1) Assess small business alternatives to traditional agricultural and other natural resource based industries;

(2) Assist in the development of business plans or loan packages, marketing, or bookkeeping;

(3) Assist and train small businesses in customer relations, product development, or business planning and development.

(c) Assessing and conducting feasibility studies of local community weaknesses and strength, feasible alternatives to agricultural production, and the necessary infrastructure to expand or develop new or existing businesses;

(d) Providing community leaders with advice and recommendations regarding best practices in community economic development stimulus programs for their communities;

(e) Conducting seminars to disseminate information to stimulate business and economic development in selected rural communities; and

(f) Developing computer technology outreach and establishing and maintaining a computer network system, linking community leaders and residents to available economic development information.

To obtain application instructions and all required forms, please contact the Cooperative Services Program at (202) 690-3407 or FAX (202) 690-2723. The application forms and instructions may also be requested via e-mail by sending a message with your name, mailing address, and phone number to edgar.lewis@usda.gov. The application forms and instructions will be mailed to you (not e-mailed or faxed) as quickly as possible. When calling or e-mailing the Cooperative Services Program, please indicate that you are requesting application forms and instructions for the FY 2003 1890 Land Grant Institutions Rural Entrepreneurial Program Outreach Initiative. The application forms may also be located on the Rural Business-Cooperative Service website: http://www.rurdev.usda.gov/rbs/oa/1890.htm.

Applicants are encouraged to closely examine the evaluation criteria noted in the “Evaluation Criteria and Weights” section of this notice as proposals are prepared.

Use of Funds

Funds may be used to pay up to 75 percent of the costs for carrying out relevant projects. Applicants' contributions may be in cash or in-kind contributions and must be from non-Federal funds. Funds may not be used to: (a) Pay more than 75 percent of relevant project or administrative costs; (b) pay costs of preparing the application package; (c) fund political activities; (d) pay costs prior to the effective date of the cooperative agreement; (e) provide for revolving funds; (f) do construction; (g) conduct any activities where there is or may appear to be a conflict of interest; or (h) purchase real estate.

Based on the Consolidated Appropriations Resolution, 2003, (Pub. L. 108-7, Feb. 20, 2003), “No funds appropriated by this Act may be used to pay indirect cost rates on cooperative agreements or similar arrangements between the United States Department of Agriculture and nonprofit institutions in excess of 10 percent of the total cost of the agreement when the purpose of such cooperative arrangement is to carry out programs of mutual interest between the two parties.”

Available Funds and Award Limitations

The total amount of funds available in FY 2003 for support of this program is approximately $1.5 million. Applicants should request a budget commensurate with the project proposed. Total funds to be awarded will be distributed to the 1890 Institutions, competitively, for the purpose of conducting outreach and providing technical assistance to targeted small rural communities. This outreach initiative includes, but is not limited to, technical assistance in economic and community development, feasibility studies, research, market development, loan packaging, conducting workshops and seminars in the area of business and economic development, and developing and providing access to computer technology and website development to the targeted population and communities. The actual number of cooperative agreements funded will depend on the quality of proposals received and the amount of funding requested. Maximum amount of Federal funds awarded for any one proposal will be $150,000. It is anticipated that a typical award would range from $75,000 to $150,000. A larger award may be granted at the RBS Administrator's discretion.

Eligible Applicants and Beneficiaries

Eligible applicants are 1890 Institutions. Eligible applicants must provide matching funds equal to at least 25 percent of the amount provided by RBS in the cooperative agreement. Matching funds must be spend in proportion to the spending of funds received from the cooperative agreement. The applicant and assigned personnel must also have expertise and experience in providing the recommended assistance. Applicants should also have a previous record of successful implementation of similar projects and must have the expertise in the use of electronic network technologies and/or a business information system network website.

Eligible beneficiaries must be located in a rural area as defined in 7 U.S.C. 1991(a)(b) with economic need. Economic need can be demonstrated by the methods delineated in the “Evaluation Criteria and Weights” section of this Notice. Location in an Empowerment Zone, Enterprise Community, Champion Community, Federally-recognized Tribal Indian groups or other Federally declared economic depressed or disaster area is sufficient evidence of economic need. Eligible beneficiaries must also be located in communities that show significant community support for the proposal. Preference will be given for projects that operate in a multi-county service area.

Award recipients may subcontract to organizations not eligible to apply provided such organizations are necessary for the conduct of the project; however, the subcontracted amount may not exceed one-third of the total Federal award.

Methods for Evaluating and Ranking Applications

Each application will be evaluated in a two-part process. First, each application will be screened to ensure that it meets the administrative requirements as set forth in this Notice of Request for Proposals. Second, a number of expert reviewers will conduct a merit review based on the “Evaluation Criteria and Weights” section of this notice. The review of the individual reviewers will be used by RBS to determine which application will be recommended to the RBS Administrator for funding. Evaluated applications will be ranked based on merit. The RBS Administrator will make final approval for those applications recommended for an award. If there is a tie score after the proposals have been rated and ranked, the tie will be resolved by the proposal with the largest matching funds as a percent of the Federal amount of the award.

Evaluation Criteria and Weights

Proposals will be evaluated using the following seven criteria. Each criterion is given the weight value shown with total points equal to 100. The points assigned provide an indication of the relative importance of each section and will be used by the reviewers in evaluating the proposals. Points do not have to be awarded by RBS for each criterion. After all proposals have been evaluated, the Administrator may award an additional 10 discretionary points to any proposal to obtain the broadest geographic dispersion of the funds, insure a broad diversity of project proposals, or insure a broad diversity in the size of the awards.

(a) Support of Local Community (Up to 10 points)—Proposals should have the support of local government, educational, community, and business groups. Higher points will be awarded for proposals demonstrating broad support from all components of the communities served. Broad support is demonstrated by tangible contribution, such as volunteering human capital, computers, transportation, and/or co-sponsoring workshops and conferences. Points will be awarded based on the level of tangible contribution in comparison to the size of the award. Tangible support must be stated in letters from supporting entities.

(b) Matching Funds/Leveraging (Up to 15 points)—This criteria relates to the extent to which the institution has the capacity to support the project with matching funds and leveraging additional funds and resources to carry out this outreach initiative.

A maximum of 10 points will be awarded based upon the amount the proposal exceeds the minimum 25 percent matching requirement. Applicants will be required to provide matching funds or equivalent in-kind in support of this project. Evidence of matching funds availability must be provided. Funds or equivalent in-kind must be available at the time the cooperative agreement is entered into. Matching funds points will be awarded as listed below.

25 percent to 35 percent match—2 points

35 percent to 50 percent match—5 points

50 percent to 75 percent match—7 points

75 percent match—10 points

Up to 5 additional points may be awarded based on the applicant's capacity to leverage additional funds and resources from other private and nonprivate sources to support this outreach initiative. Applicants must provide sufficient information on the amount and sources of leveraging activities for the evaluation panel to properly rate this criterion.

(c) Economic Need of Community (Up to 20 points)—This criterion will be evaluated based on the economic need of the targeted communities.

A maximum of 7 points will automatically be awarded to proposals with one or more of the following entities in a targeted community(s): Empowerment Zones, Enterprise Communities, Champion Communities, Federally-recognized Indian Tribal groups, and other Federally declared economic depressed or disaster areas. Applicants must provide sufficient information for the panel to properly rate this part of the above criterion. The proposals must state the name and location of the declared economic depressed area.

Rural underserved targeted counties/communities should be the same as the RBS definition for rural eligibility, which is any area other than a city or town that has a population of greater than 50,000 inhabitants and the urbanized area contiguous and adjacent to such a city or town, as defined by the U.S. Bureau of the Census using the latest decennial census of the United States.

Also, for this criterion, a maximum of 8 points will be awarded for demonstrated economic need based on the currently available poverty rate of the targeted local community(s). Applicants may use targeted county/or community poverty rates if available. When multi-communities proposals are submitted, the overall weighted average for all counties or communities will be used. Applicants must use current (2000 Census) poverty data for each targeted county/or community and for their respective State. Points will be awarded based on the differences in the targeted county/or community average poverty from the respective State poverty rate (average targeted county or community poverty rate-State poverty rate) as following. Percents will be rounded to the next whole number.

Less than 3 percent—0 points

3-6 percent—1 point

7-10 percent—2 points

11-15 percent—5 points

Greater than 15 percent—8 points

Up to five additional points may be awarded for this criterion based on the applicant's ability to demonstrate or identify other economic needs of the targeted communities, such as, but not limited to, unemployment rates, education levels, and job availability. The applicant must provide sufficient information for the panel to properly rate this part of the above criterion.

(d) Previous Accomplishments (Up to 10 points)—This criterion will be evaluated based on the applicant's previous accomplishments with this outreach initiative and/or demonstrative capacity to conduct similar outreach work.

A point will be awarded to those institutions for each year they have been awarded a cooperative agreement under this program up to 5 years. Applicants must provide evidence of satisfactorily completing the agreement for each year that they claim for credit.

Up to five additional points may be awarded based on the applicant's ability to document the impact of their project upon the targeted underserved rural communities. It is incumbent upon the applicant to provide information as to the type of services delivered, the names of rural communities, and the number of targeted audiences served the last year awarded.

Applicants with zero or less than 5 recent years of awards in this program may receive up to the maximum 10 points by highlighting the institution's commitment and previous performance on this project or projects with similar outreach objectives. The applicant should discuss the potential impact of their project upon the targeted underserved rural communities, as well as describing previous similar outreach work.

(e) Statement of Work (up to 20 Points)—This criterion relates to the degree to which the proposed project addresses the major purposes for the “1890 Land Grant Institutions Rural Entrepreneurial Program Outreach Initiative.” Points will be awarded according to the degree to which the statement of work reflects innovative strategies for providing outreach and assistance to the targeted underserved rural entrepreneurs, businesses and communities, and the potential for achieving project objectives. To receive the maximum points, proposals must have a clearly and concisely stated work plan showing objectives, goals, timetables, expected results, measurable outcomes, and who will be performing various activities, including RBS involvement.

(f) Digital Technology Outreach (Up to 10 points)—This criterion is meant to evaluate the applicant's level of outreach and capacity to provide innovative and effective computer technology outreach to the underserved targeted rural communities.

A maximum of 5 points will be awarded based on the applicant's demonstrated capacity to promote innovations and improvements in the delivery of computer technology benefits to underserved rural communities whose share in these benefits is disproportionably low. Examples of innovations and improvements in this needed area include, but are not limited to, computer-base, decision support systems to assist entrepreneurs and rural community governments in taking advantage of relevant technologies or efficacious delivery systems for business information or resource management assistance for rural underserved entrepreneurs and local governments and providing business information systems network.

Up to five additional points may be awarded based on the qualification and subject skill level of the individuals directly conducting the technology outreach activities. Applicants must provide sufficient information for the evaluation panel to properly rate this technology criterion.

(g) Coordination and Management of the Project (Up to 15 points)—This criterion will be evaluated based on the applicant's demonstrated capacity to coordinate and manage this type of outreach initiative among the various stakeholders.

A maximum of 8 points will be awarded for the coordination plan. Applicants will need to describe the role and coordination mechanisms among various participants, including communities, the applicant, and RBS. The nature of the collaborations and benefits to participants must also be described.

By definition, a cooperative agreement requires sufficient involvement by the funding agent in carrying out the project objectives in the project. Therefore, up to 7 additional points may be awarded for this criterion based on demonstration of broad involvement and collaboration with each applicant's respective RBS State Office as related to the outreach project. This involvement and collaboration should include, but is not limited to: (1) RBS State Office input and review of institution's proposal, (2) invitations to attend and participate in workshops and conferences when needed, (3) on-going monitoring of the outreach project, and (4) directing applicants to the RBS State Office when applicable.

Deliverables

During the term of the negotiated agreements, the recipients will deliver quarterly reports of progress of the work to RBS and prepare and deliver a final report detailing all work done and results accomplished. In addition, all reports forwarded to RBS must be forwarded to the Rural Development State Office. Also, upon request by RBS, the recipient will deliver manuscripts, videotapes, software, or other media, as may be identified in approved proposals. RBS retains those rights delineated in 7 CFR 3019.36. Also, the recipients will deliver project outreach success stories and other project related information requested by RBS for use on the website (http://bisnet.sus.edu), or other websites designated by RBS.

Award Amount

In the event that the applicant is to receive an award that is less than the amount requested, the applicant will be required to modify the application to conform to the reduced amount before execution of the cooperative agreement. RBS reserves the right to reduce or de-obligate any award if acceptable modifications are not submitted by the awardees within 10 working days from the date the application is returned to the applicant. Any modification must be within the scope of the original application.

Recipient Requirements

Institutions that are awarded a cooperative agreement will be responsible for the following:

(a) Completing the objectives as defined in the approved proposal.

(b) During the term of the agreement, keep up-to-date records on the project, and on or prior to October 6, January 5, April 5, and July 5, make quarterly reports of the progress of the work to RBS, and prepare a final report detailing all work done and results accomplished. All reports will be forwarded to the RBS National Office and to the final report detailing all work done and results accomplished. All reports will be forwarded to the RBS National Office and to the Rural Development State Office.

(c) Submit to RBS, on a quarterly basis, Form SF-270, “Request for Advance or Reimbursement.”

(d) Keep an account of expenditures of the Federal dollars and matching fund dollars and provide to RBS, Form SF-269, “Financial Status Report,” with each Form SF-270 submitted, and a final SF-269 within 90 days of the project's completion.

(e) Immediately refund to RBS, at the end of the agreement, any balance of unobligated funds received from RBS.

(f) Provide matching funds or equivalent in-kind in support of the project, at least to the level agreed to in the accepted proposal.

(g) Conduct seminars to disseminate Rural Development program information to stimulate business and economic development in selected rural communities.

(h) Participate in the RBS Entrepreneurship Conferences when planned.

(i) In cooperation with local businesses, develop a program of business startup and technical assistance that will assist with new company development, business planning, new enterprise, franchise startup and consulting, business expansion studies, marketing analysis, cashflow management, and seminars and workshops for small businesses.

(j) Provide office space, equipment, and supplies for all personnel assigned to the project.

(k) Develop management and technical assistance plans in cooperation with RBS State Office that will:

(1) Assess small business alternatives to agricultural and other natural resources-based industries;

(2) Assist in the development of business plans and loan packages, marketing, bookkeeping assistance, and organizational sustainability; and

(3) In cooperation with the RBS State Office, provide technical assistance and training in customer relations, product development, and business planning and development.

(l) Assess the need for and, if necessary, conduct a feasibility study of local community weaknesses and strengths, feasible alternatives to agriculture production, and the needed infrastructure to expand or develop new or existing businesses. The plans for any such studies must be submitted for approval prior to the study being conducted.

(m) In cooperation with the RBS State Office, provide community leaders with advice and recommendations regarding best practices in community economic development stimulus programs for their communities.

(n) Develop technology outreach and establish and maintain a Business Information Network System website, linking community leaders and residents to available economic development information.

(o) Assure and certify that it is in compliance with, and will comply in the course of the agreement with, all applicable laws, regulations, Executive orders, and other generally applicable requirements, including those set out in 7 CFR 3015.205(b) and 7 CFR part 3019.

(p) Federal funds can only be used to pay meeting related travel expenses, if the employees are performing a service of direct benefit to the government directly in furtherance of the objectives of the proposed agreement. Therefore, Federal funds cannot be used to pay non-Federal employees to attend meetings.

(q) Not commingle or use program funds for administrative expenses to operate an Intermediary Relending Program (IRP).

(r) As a cooperative agreement and not a grant, the 1890 Institution will collaborate with the RBS National and State Offices in performing the tasks in the agreement as needed and will provide the RBS National Office with the necessary information for RBS to do the following:

(1) Monitor the program as it is being implemented and operated, including monitoring of financial information to ensure that there is no commingling or use of program funds for administrative expenses to operate an IRP or other unapproved items.

(2) Halt activity, after written notice, if tasks are not met.

(3) Review and approve changes to key personnel.

(4) Provide guidance in the evaluation process and other technical assistance as needed.

(5) Approve the final plans for the community business workshops, business and economic development sessions, and training workshops to be conducted by the Institution.

(6) Provide reference assistance as needed to the Institution for technical assistance given on a one-on-one basis to entrepreneurs and startup businesses.

(7) Review and comment upon strategic plans developed by the Institution for targeted areas.

(8) Review economic assessments made by the Institution for targeted counties so that RBS can indicate which of its programs may be beneficial.

(9) Carefully screen the project to prevent First Amendment violations.

(10) Monitor the program to ensure that a Business Information System Network website link is established and maintained.

(11) Provide technical assistance and training to the Business Information System Network Hub-sites and Wide Area Network (WAN) Team Members at the universities in preparing economic development information for posting on the Internet.

(12) Allow the RBS State Office to conduct a semi-annual on-site review and submit written reports to the National Office.

Content of a Proposal

A proposal should contain an original and two copies of each of the following:

(a) Completed Forms.

(1) Form SF-424, “Application for Federal Assistance.”

(2) Form SF-424A, “Budget Information—Non-Construction Programs.”

(3) Form SF-424B, “Assurances—Non-Construction Programs.”

(4) Form AD-1047, “Certification Regarding Debarment, Suspension, and Other Responsibility Matters—Primary Covered Transactions.”

(5) Form AD-1049, “Certification Regarding Drug-Free Workplace Requirements.”

(6) Form SF-LLL, “Disclosure of Lobbying Activities.”

(b) Table of Contents. For ease of locating information, each proposal must contain a detailed Table of Contents immediately following the required forms. The Table of Contents should include page numbers for each component of the proposal. Pagination should begin immediately following the Table of Contents.

(c) Project Executive Summary. A summary of the Project, not to exceed one page.

(d) Project Proposal. The application must contain a narrative statement describing the nature of the proposed outreach initiative. The proposal must include at least the following:

(1) Project Title Page. Should include the following: Title of the project, names of principal investigators, and applicant organization.

(2) Introduction. A concisely worded justification or rationale for the outreach initiative must be presented. Included should be a summarization of social and economical statistical data (income population, employment rate, poverty rate, education attainment, etc.), of the target area which substantiates the need for the outreach initiative. Note in this section if the target area includes an Employment Zone/Enterprise Community, Champion Community, Federally-recognized Indian Tribal group or other Federally declared economic disaster area.

(3) Workplan. Discuss the approach (strategy) to be used in carrying out the proposed outreach initiative and accomplishing the objectives. A description of any subcontracting arrangements to be used in carrying out the project must be included. Also, the workplan must include:

(i) Overview of the project objectives and goals: Identify and discuss the specific goals and objectives of the project and the impact of the outreach initiative on end-users;

(ii) Timeframe: Develop a tentative schedule for conducting the major steps of the outreach initiative;

(iii) Milestones: Describe and quantify the expected outcome of the specific outreach objective, including jobs created or assisted, conferences and seminars conducted and number of participants, loans packaged, etc.;

(iv) Recipient involvement: Identify the person(s) who will be performing the activities; and

(v) RBS involvement: Identify RBS staff responsible for assisting and monitoring the activities.

(4) Estimated Budget. Detail budget justification including matching funds.

(5) Leveraging Funds. Other institutional support of this outreach initiative project.

(6) Coordination and Management Plan. Describe how the project will be coordinated among various participants, nature of the collaborations and benefits to participants, the communities, the applicant, and RBS. Describe plans for management of the project to ensure its proper and efficient administration. Describe scope of RBS involvement in the project.

(7) Technology Outreach. The proposal should address the applicant's ability to deliver computer technology to the targeted rural communities and implement and maintain a computer network system linking community leaders and residents to available economic development information.

(8) Key Personnel Support. The proposal should include curriculum vitae for the principal investigator and other key personnel used to carry out the goals and objectives of the proposal.

(9) Facilities or Equipment. Where the project will be located (housed) and what other equipment is needed or already available to carry out the specific objectives of the project.

(10) Previous Accomplishments. Summarize previous accomplishments of outreach work funded by RBS or similar outreach experiences, especially for first-time applicants.

(11) Local Support. Letters of support from the local community such as businesses, educational institutions, local governments, community-based organizations, etc. Letters of support should show support with commitment for tangible resources and or assistance.

(12) Any other information necessary for RBS to approve and rank your proposal.

Additionally, you are encouraged to provide any strategic plan that has been developed to assist business development or entrepreneurship for the targeted communities.

What To Submit

All applicants for the cooperative agreement must submit a completed original, plus two copies of the proposal for this competitive program. Do not bind the original copy.

Other Federal Statutes and Regulations That Apply

Several other Federal statutes and regulations apply to proposals considered for review and to cooperative agreements awarded. These include, but are not limited to:

CFR part 15, subpart A—Nondiscrimination in Federally-Assisted Programs of the Department of Agriculture—Effectuation of Title VI of the Civil Rights Act of 1964.

7 CFR part 3015—Uniform Federal Assistance Regulations.

7 CFR part 3017—Governmentwide Debarment and Suspension (Nonprocurement) and Governmentwide Requirements for Drug-Free Workplace (Grants).

7 CFR part 3018—New Restrictions on Lobbying.

7 CFR part 3019—Uniform Administrative Requirements for Grants and Agreements with Institutions of Higher Education, Hospitals, and Other Non-Profit Organizations.

7 CFR part 3052—Audits of States, Local Governments and Non-Profit Organizations.

Paperwork Reduction Act

The paperwork burden associated with this initiative has been cleared by the Office of Management and Budget under OMB Control Number 0570-0041.

Dated: May 6, 2003
John Rosso,
Administrator, Rural Businesses-Cooperative Service.

[FR Doc. 03-11760 Filed 5-9-03; 8:45 am]

BILLING CODE 341-XY-M